DEPARTMENT OF DEFENSE

Office of the Secretary

Renewal of Department of Defense Federal Advisory Committees

AGENCY: DoD.

ACTION: Renewal of Board on Coastal Engineering Research.

SUMMARY: Under the provisions of 10 U.S.C. 2166(e), the Federal Advisory Committee Act of 1972 (5 U.S.C. Appendix), the Government in the Sunshine Act of 1976 (5 U.S.C. 552b), and 41 CFR 102-3.50(a), the Department of Defense gives notice that it is renewing the charter for the Board on Coastal Engineering Research (“the Board”).

FOR FURTHER INFORMATION CONTACT: Jim Freeman, Advisory Committee Management Officer for the Department of Defense, 703-692-5952.

SUPPLEMENTARY INFORMATION: The Board shall provide the Coastal Engineering Research Center, through the Chief of Engineers/Commander (“the Chief of Engineers”), U.S. Army Corps of Engineers (“the Corps of Engineers”), independent advice and recommendations on reports of investigations made concerning shore erosion on coastal and lake waters and the protection of such shores.

The Board shall report to the Secretary of the Army, through the Chief of Engineers/Commander, U.S. Army Corps of Engineers. The Chief of Engineers/Commander, U.S. Army Corps of Engineers, may act upon the Board's advice and recommendations. The Board, pursuant to 33 U.S.C. 426-2, shall be composed of not more than seven members.

DoD, pursuant to the authorizing legislation, shall appoint four officers of the Corps of Engineers to the Board as ex officio appointments, with one position being occupied by the Deputy Commanding General for Civil and Emergency Operations, U.S. Army Corps of Engineers. The Chief of Engineers, in consultation with the Assistant Secretary of the Army (Civil Works), shall determine which three of the eight coastal division commanders shall be nominated as the other ex officio members of the Board. The Chief of Engineers, in determining which of the coastal division commanders shall serve on the Board, shall consider the individual's tenure as a division commander and his or her expertise in the matters before the Board.

The three civilian Board members shall be civilian engineers recommended by the Chief of Engineers for their expertise in the field of beach erosion and shore protection. The Deputy Commanding General for Civil and Emergency Operations, U.S. Army Corps of Engineers, shall serve as the President of the Board.

Board members, who are not full-time or permanent part-time Federal officers or employees, shall be appointed by the Secretary of Defense to serve as experts and consultants under the authority of 5 U.S.C. 3109, and shall serve as special government employee (SGE) members. Civilian Board members may be appointed by the Secretary of Defense or Deputy Secretary of Defense for a two-year term of service, with annual renewals; however, no civilian member, unless authorized by the Secretary of Defense, may serve more than two consecutive terms of service.

Pursuant to section 105 of Public Law 91-611, Board members who are not full-time or permanent part-time Federal officers or employees, may be paid at rates not to exceed the daily equivalent of the rate for a GS-15, step 10, for each day of attendance at Board meetings, not to exceed 30 days per year, in addition to travel and other necessary expenses connected with their official duties on the Board, in accordance with the provisions of 5 U.S.C. 5703(b), (d), and 5707. All other Board members shall receive compensation for travel and per diem for official travel.

DoD, when necessary and consistent with the Board's mission and DoD policies and procedures, may establish subcommittees, task forces, or working groups to support the Board. Establishment of subcommittees will be based on a written determination, to include terms of reference, by the Secretary of Defense, the Deputy Secretary of Defense, or the Secretary of the Army, as the DoD Sponsor.

Such subcommittees shall not work independently of the Board and shall report all of their recommendations and advice solely to the Board for full deliberation and discussion. Subcommittees, task forces, or working groups have no authority to make decisions and recommendations, verbally or in writing, on behalf of the Board. No subcommittee or any of its members can update or report, verbally or in writing, on behalf of the Board, directly to DoD or any Federal officer or employee.

Subcommittee members, if not full-time or part-time Government employees, shall be appointed to serve as experts and consultants under the authority 5 U.S.C. 3109, and shall serve as SGE members. The Secretary of Defense or the Deputy Secretary of Defense may approve the appointment of subcommittee members for a two-year term of service with annual renewals; however, no member, unless authorized by the Secretary of Defense, may serve more than two consecutive terms of service. With the exception of travel and per diem for official travel related to the Board or its subcommittees, subcommittee members shall serve without compensation.

Each subcommittee member is appointed to provide advice to the Government on the basis of his or her best judgment without representing any particular point of view and in a manner that is free from conflict of interest.

All subcommittees, task forces, or working groups shall operate under the provisions of FACA, the Sunshine Act, other governing Federal statutes and regulations, and established DoD policies and procedures.

The Board shall meet at the call of the Board's Designated Federal Officer (DFO), in consultation with the Chairperson. The estimated number of Board meetings is no less than two per year.

In addition, the DFO is required to be in attendance at all Board and subcommittee meetings for the entire duration of each and every meeting; however, in the absence of the DFO, the Alternate DFO shall attend the entire duration of the Board or subcommittee meeting. Pursuant to 41 CFR 102-3.105(j) and 102-3.140, the public or interested organizations may submit written statements to the Board membership about the Board's mission and functions. Written statements may be submitted at any time or in response to the stated agenda of planned meeting of the Board.

All written statements shall be submitted to the DFO, and this individual will ensure that the written statements are provided to the membership for their consideration. Contact information for the Board's DFO can be obtained from the GSA's FACA Database— https://www.fido.gov/facadatabase/public.asp.

The DFO, pursuant to 41 CFR 102-3.150, will announce planned meetings of the Board. The DFO, at that time, may provide additional guidance on the submission of written statements that are in response to the stated agenda for the planned meeting in question.

Dated: March 8, 2013.
Aaron Siegel,
Alternate OSD Federal Register Liaison Officer, Department of Defense.

[FR Doc. 2013-05728 Filed 3-12-13; 8:45 am]

BILLING CODE 5001-06-P